DEPARTMENT OF TRANSPORTATION

Federal Aviation Administration

14 CFR Part 97

[Docket No. 30832; Amdt. No. 3469]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective March 16, 2012. The compliance date for each SIAP, associated Takeoff Minimums, and ODP is specified in the amendatory provisions.

The incorporation by reference of certain publications listed in the regulations is approved by the Director of the Federal Register as of March 16, 2012.

ADDRESSES: Availability of matter incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420) Flight Technologies and Programs Division, Flight Standards Service, Federal Aviation Administration, Mike Monroney Aeronautical Center, 6500 South MacArthur Blvd., Oklahoma City, OK 73169 (Mail Address: P.O. Box 25082 Oklahoma City, OK. 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on March 2, 2012.
John McGraw,
Deputy Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC | FDC date | Subject
5-Apr-12 | TN | Bristol-Johnson-Kingsport | Bristol/Tri-Cities Rgnl | 2/0280 | 2/23/12 | ILS RWY 23, ILS RWY 23 (CAT II), Amdt 24D.
5-Apr-12 | AK | Soldotna | Soldotna | 2/0793 | 2/23/12 | NDB RWY 07, Amdt 2.
5-Apr-12 | AK | Soldotna | Soldotna | 2/1292 | 2/23/12 | VOR-A, Amdt 7.
5-Apr-12 | TX | Van Horn | Culberson County | 2/2701 | 2/13/12 | NDB RWY 21, Amdt 2A.
5-Apr-12 | MO | St Louis | Lambert-St Louis Intl | 2/2720 | 2/27/12 | ILS OR LOC RWY 11, ILS RWY 11 (CAT II), ILS RWY 11 (CAT III), Orig-A.
5-Apr-12 | MO | St Louis | Lambert-St Louis Intl | 2/2721 | 2/27/12 | ILS OR LOC RWY 12L, ILS RWY 12L (CAT II), ILS RWY 12L (CAT III), Amdt 6.
5-Apr-12 | MO | Kansas City | Kansas City Intl | 2/2722 | 2/23/12 | ILS OR LOC RWY 1R, ILS RWY 1R (CAT II), ILS RWY 1R (CAT III), Amdt 3A.
5-Apr-12 | MO | Kansas City | Kansas City Intl | 2/2723 | 2/23/12 | ILS OR LOC RWY 19R, ILS RWY 19R (CAT II), ILS RWY 19R (CAT III), Amdt 10A.
5-Apr-12 | MO | St Louis | Lambert-St Louis Intl | 2/2724 | 2/27/12 | ILS OR LOC RWY 30R, ILS RWY 30R (CAT II), ILS RWY 30R (CAT III), Amdt 10.
5-Apr-12 | OH | Dayton | James M Cox Dayton Intl | 2/2725 | 2/23/12 | ILS OR LOC RWY 6L, ILS RWY 6L (CAT II), ILS RWY 6L (CAT III), Amdt 9.
5-Apr-12 | AR | Little Rock | Adams Field | 2/2727 | 2/22/12 | ILS OR LOC RWY 22R, ILS RWY 22R (CAT II), ILS RWY 22R (CAT III), Amdt 2A.
5-Apr-12 | MI | Detroit | Detroit Metropolitan Wayne County | 2/2732 | 2/22/12 | ILS OR LOC RWY 3R, ILS RWY 3R (CAT II), ILS RWY 3R (CAT III), Amdt 15A.
5-Apr-12 | OH | Cleveland | Cleveland-Hopkins Intl | 2/2733 | 2/22/12 | ILS OR LOC RWY 6L, ILS RWY 6L (CAT II), ILS RWY 6L (CAT III), Amdt 2B.
5-Apr-12 | OH | Cleveland | Cleveland-Hopkins Intl | 2/2734 | 2/22/12 | ILS OR LOC/DME RWY 24R, ILS RWY 24R (SA CAT I), ILS RWY 24R (CAT II), ILS RWY 24R (CAT III), Amdt 5.
5-Apr-12 | OH | Cleveland | Cleveland-Hopkins Intl | 2/2735 | 2/22/12 | ILS OR LOC RWY 24L, ILS RWY 24L (SA CAT II), Amdt 22.
5-Apr-12 | MI | Detroit | Detroit Metropolitan Wayne County | 2/2740 | 2/22/12 | ILS OR LOC RWY 4R, ILS RWY 4R (CAT II), ILS RWY 4R (CAT III), Amdt 16.
5-Apr-12 | MO | Kansas City | Kansas City Intl | 2/2743 | 2/23/12 | RNAV (GPS) Y RWY 1R, Amdt 1A.
5-Apr-12 | MO | Kansas City | Kansas City Intl | 2/2744 | 2/23/12 | RNAV (GPS) Y RWY 19L, Amdt 1.
5-Apr-12 | AR | Little Rock | Adams Field | 2/2746 | 2/22/12 | ILS OR LOC RWY 4R, Amdt 2A.
5-Apr-12 | OH | Cleveland | Cleveland-Hopkins Intl | 2/2751 | 2/22/12 | ILS OR LOC RWY 6R, ILS RWY 6R (SA CAT II), Amdt 21.
5-Apr-12 | KS | Wichita | Wichita Mid-Continent | 2/2752 | 2/22/12 | RNAV (GPS) RWY 1R, Orig-A.
5-Apr-12 | KS | Wichita | Wichita Mid-Continent | 2/2754 | 2/22/12 | RNAV (RNP) Z RWY 19L, Orig-A.
5-Apr-12 | MI | Detroit | Detroit Metropolitan Wayne County | 2/2758 | 2/22/12 | RNAV (GPS) RWY 4L, Amdt 2.
5-Apr-12 | MO | Kansas City | Kansas City Intl | 2/2759 | 2/23/12 | RNAV (RNP) Z RWY 1R, Orig-B.
5-Apr-12 | MO | St Louis | Lambert-St Louis Intl | 2/2760 | 2/27/12 | RNAV (GPS) RWY 11, Orig.
5-Apr-12 | AR | Little Rock | Adams Field | 2/2768 | 2/22/12 | ILS OR LOC RWY 4L, Amdt 25D.
5-Apr-12 | AR | Little Rock | Adams Field | 2/2770 | 2/22/12 | RNAV (GPS) RWY 4R, Amdt 1A.
5-Apr-12 | AR | Little Rock | Adams Field | 2/2771 | 2/22/12 | RNAV (GPS) RWY 22L, Amdt 1A.
5-Apr-12 | AR | Little Rock | Adams Field | 2/2772 | 2/22/12 | RNAV (GPS) RWY 4L, Amdt 1A.
5-Apr-12 | KS | Wichita | Wichita Mid-Continent | 2/2780 | 2/22/12 | ILS OR LOC RWY 19R, Amdt 5C.
5-Apr-12 | OK | Oklahoma City | Will Rogers World | 2/2781 | 2/23/12 | RNAV (RNP) Z RWY 17L, Amdt 2.
5-Apr-12 | MO | Kansas City | Kansas City Intl | 2/2783 | 2/23/12 | RNAV (RNP) Z RWY 19R, Orig-A.
5-Apr-12 | MO | St Louis | Lambert-St Louis Intl | 2/2784 | 2/27/12 | ILS OR LOC RWY 29, Amdt 1B.
5-Apr-12 | OK | Oklahoma City | Will Rogers World | 2/2786 | 2/23/12 | RNAV (RNP) Z RWY 35R, Amdt 1.
5-Apr-12 | OK | Oklahoma City | Will Rogers World | 2/2790 | 2/23/12 | RNAV (GPS) Y RWY 35R, Amdt 2.
5-Apr-12 | MO | Kansas City | Kansas City Intl | 2/2792 | 2/23/12 | ILS OR LOC RWY 1L, Amdt 14.
5-Apr-12 | MO | St Louis | Lambert-St Louis Intl | 2/2793 | 2/27/12 | RNAV (GPS) RWY 12L, Amdt 2.
5-Apr-12 | MO | St Louis | Lambert-St Louis Intl | 2/2795 | 2/27/12 | ILS OR LOC RWY 12R, Admt 21E.
5-Apr-12 | OK | Oklahoma City | Will Rogers World | 2/2797 | 2/23/12 | RNAV (GPS) Y RWY 17L, Amdt 2.
5-Apr-12 | OK | Oklahoma City | Will Rogers World | 2/2799 | 2/23/12 | ILS OR LOC RWY 17R, Amdt 11.
5-Apr-12 | OK | Oklahoma City | Will Rogers World | 2/2800 | 2/23/12 | ILS OR LOC/DME RWY 35L, Amdt 1.
5-Apr-12 | MO | Kansas City | Kansas City Intl | 2/2802 | 2/23/12 | RNAV (RNP) Z RWY 1L, Orig-A.
5-Apr-12 | MO | Kansas City | Kansas City Intl | 2/2805 | 2/23/12 | RNAV (GPS) Y RWY 19R, Amdt 1.
5-Apr-12 | MO | St Louis | Lambert-St Louis Intl | 2/2806 | 2/27/12 | RNAV (GPS) RWY 30R, Amdt 1B.
5-Apr-12 | MI | Detroit | Detroit Metropolitan Wayne County | 2/2807 | 2/22/12 | RNAV (GPS) RWY 22R, Amdt 1.
5-Apr-12 | OH | Dayton | James M Cox Dayton Intl | 2/2810 | 2/23/12 | RNAV (GPS) RWY 24R, Amdt 1.
5-Apr-12 | MI | Detroit | Detroit Metropolitan Wayne County | 2/2811 | 2/22/12 | RNAV (GPS) RWY 22L, Amdt 1.
5-Apr-12 | MO | St Louis | Lambert-St Louis Intl | 2/2818 | 2/27/12 | RNAV (GPS) RWY 30L, Amdt 1.
5-Apr-12 | MO | St Louis | Lambert-St Louis Intl | 2/2823 | 2/27/12 | ILS OR LOC RWY 30L, Amdt 12.
5-Apr-12 | MO | St Louis | Lambert-St Louis Intl | 2/2825 | 2/27/12 | RNAV (GPS) RWY 12R, Amdt 1.
5-Apr-12 | MO | Kansas City | Kansas City Intl | 2/2826 | 2/23/12 | RNAV (RNP) Z RWY 19L, Orig-A.
5-Apr-12 | MO | St Louis | Lambert-St Louis Intl | 2/2827 | 2/27/12 | RNAV (GPS) RWY 29, Orig-A.
5-Apr-12 | OH | Cleveland | Cleveland-Hopkins Intl | 2/2828 | 2/22/12 | RNAV (GPS) RWY 6L, Amdt 1A.
5-Apr-12 | OH | Cleveland | Cleveland-Hopkins Intl | 2/2830 | 2/22/12 | RNAV (GPS) RWY 24R, Amdt 3.
5-Apr-12 | OH | Cleveland | Cleveland-Hopkins Intl | 2/2831 | 2/22/12 | LDA/DME RWY 6R, Amdt 1A.
5-Apr-12 | MO | Kansas City | Kansas City Intl | 2/2832 | 2/23/12 | ILS OR LOC RWY 19L, Amdt 1.
5-Apr-12 | OH | Cleveland | Cleveland-Hopkins Intl | 2/2833 | 2/22/12 | RNAV (GPS) RWY 24L, Amdt 3.
5-Apr-12 | KS | Wichita | Wichita Mid-Continent | 2/2834 | 2/22/12 | RNAV (RNP) Z RWY 1L, Orig-A.
5-Apr-12 | OH | Cleveland | Cleveland-Hopkins Intl | 2/2835 | 2/22/12 | LDA/DME RWY 24L, Amdt 1A.
5-Apr-12 | MO | Kansas City | Kansas City Intl | 2/2836 | 2/23/12 | RNAV (GPS) Y RWY 1L, Amdt 1.
5-Apr-12 | KS | Wichita | Wichita Mid-Continent | 2/2837 | 2/22/12 | ILS OR LOC RWY 1R, Amdt 17A.
5-Apr-12 | KS | Wichita | Wichita Mid-Continent | 2/2839 | 2/22/12 | RNAV (GPS) Y RWY 1L, Amdt 1.
5-Apr-12 | OH | Dayton | James M Cox Dayton Intl | 2/2840 | 2/23/12 | RNAV (GPS) RWY 24L, Amdt 1A.
5-Apr-12 | OH | Cleveland | Cleveland-Hopkins Intl | 2/2844 | 2/22/12 | RNAV (GPS) RWY 6R, Amdt 2A.
5-Apr-12 | KS | Wichita | Wichita Mid-Continent | 2/2846 | 2/22/12 | RNAV (GPS) Y RWY 19L, Amdt 1.
5-Apr-12 | KS | Wichita | Wichita Mid-Continent | 2/2847 | 2/22/12 | ILS OR LOC RWY 19L, Orig-A.
5-Apr-12 | OH | Dayton | James M Cox Dayton Intl | 2/2850 | 2/23/12 | RNAV (GPS) RWY 6R, Amdt 1.
5-Apr-12 | OH | Dayton | James M Cox Dayton Intl | 2/2854 | 2/23/12 | ILS OR LOC RWY 24R, Amdt 9.
5-Apr-12 | OH | Dayton | James M Cox Dayton Intl | 2/2858 | 2/23/12 | RNAV (GPS) RWY 6L, Amdt 1.
5-Apr-12 | AR | Little Rock | Adams Field | 2/2859 | 2/22/12 | ILS OR LOC RWY 22L, Orig-A.
5-Apr-12 | OH | Dayton | James M Cox Dayton Intl | 2/2860 | 2/23/12 | ILS OR LOC RWY 24L, Amdt 9.
5-Apr-12 | MI | Detroit | Detroit Metropolitan Wayne County | 2/2864 | 2/22/12 | ILS Y RWY 22R, Orig.
5-Apr-12 | MI | Detroit | Detroit Metropolitan Wayne County | 2/2865 | 2/22/12 | ILS Z OR LOC RWY 22R, Amdt 2A.
5-Apr-12 | MI | Detroit | Detroit Metropolitan Wayne County | 2/2868 | 2/22/12 | RNAV (GPS) RWY 3R, Amdt 1.
5-Apr-12 | MI | Detroit | Detroit Metropolitan Wayne County | 2/2869 | 2/22/12 | RNAV (GPS) RWY 4R, Amdt 1.
5-Apr-12 | MI | Detroit | Detroit Metropolitan Wayne County | 2/2871 | 2/22/12 | RNAV (GPS) RWY 27R, Amdt 2.
5-Apr-12 | TN | Nashville | Nashville Intl | 2/2893 | 2/22/12 | ILS OR LOC RWY 20R, Amdt 10.
5-Apr-12 | TN | Nashville | Nashville Intl | 2/2894 | 2/22/12 | RNAV (GPS) Y RWY 20R, Amdt 2.
5-Apr-12 | TN | Nashville | Nashville Intl | 2/2895 | 2/22/12 | RNAV (RNP) Z RWY 20R, Orig-A.
5-Apr-12 | TN | Nashville | Nashville Intl | 2/2896 | 2/22/12 | RNAV (GPS) Y RWY 20L, Amdt 1.
5-Apr-12 | TN | Nashville | Nashville Intl | 2/2897 | 2/22/12 | ILS OR LOC RWY 2R, Amdt 7.
5-Apr-12 | TN | Nashville | Nashville Intl | 2/2898 | 2/22/12 | ILS RWY 2R (CAT II), Amdt 7.
5-Apr-12 | TN | Nashville | Nashville Intl | 2/2899 | 2/22/12 | RNAV (GPS) Y RWY 2R, Amdt 1.
5-Apr-12 | TN | Nashville | Nashville Intl | 2/2900 | 2/22/12 | RNAV (RNP) Z RWY 2R, Orig-A.
5-Apr-12 | TN | Nashville | Nashville Intl | 2/2901 | 2/22/12 | RNAV (GPS) Y RWY 2L, Amdt 1.
5-Apr-12 | TN | Nashville | Nashville Intl | 2/2902 | 2/22/12 | RNAV (GPS) Y RWY 2C, Amdt 1.
5-Apr-12 | TN | Nashville | Nashville Intl | 2/2903 | 2/22/12 | RNAV (RNP) Z RWY 2C, Orig-A.
5-Apr-12 | TN | Nashville | Nashville Intl | 2/2904 | 2/22/12 | ILS OR LOC RWY 20L, Amdt 5.
5-Apr-12 | TN | Nashville | Nashville Intl | 2/2905 | 2/22/12 | RNAV (RNP) Z RWY 20L, Orig-A.
5-Apr-12 | TN | Nashville | Nashville Intl | 2/2906 | 2/22/12 | ILS OR LOC RWY 2C, Amdt 1.
5-Apr-12 | TN | Nashville | Nashville Intl | 2/2907 | 2/22/12 | ILS OR LOC RWY 2L, Amdt 9.
5-Apr-12 | TN | Nashville | Nashville Intl | 2/2908 | 2/22/12 | ILS RWY 2L (CAT II), Amdt 9.
5-Apr-12 | TN | Nashville | Nashville Intl | 2/2909 | 2/22/12 | ILS RWY 2L (CAT III), Amdt 9.
5-Apr-12 | TN | Nashville | Nashville Intl | 2/2910 | 2/22/12 | ILS RWY 2R (CAT III), Amdt 7.
5-Apr-12 | TN | Nashville | Nashville Intl | 2/2911 | 2/22/12 | RNAV (RNP) Z RWY 2L, Orig-A.
5-Apr-12 | NC | Charlotte | Charlotte/Douglas Intl | 2/2920 | 2/23/12 | ILS OR LOC RWY 18C, Amdt 10A.
5-Apr-12 | NC | Charlotte | Charlotte/Douglas Intl | 2/2921 | 2/23/12 | RNAV (GPS) Y RWY 18C, Amdt 3A.
5-Apr-12 | NC | Charlotte | Charlotte/Douglas Intl | 2/2922 | 2/23/12 | RNAV (RNP) Z RWY 18C, Orig-B.
5-Apr-12 | NC | Charlotte | Charlotte/Douglas Intl | 2/2933 | 2/23/12 | ILS RWY 36C (CAT II), Amdt 16A.
5-Apr-12 | NC | Charlotte | Charlotte/Douglas Intl | 2/2934 | 2/23/12 | RNAV (GPS) Y RWY 36C, Amdt 3A.
5-Apr-12 | NC | Charlotte | Charlotte/Douglas Intl | 2/2941 | 2/23/12 | ILS OR LOC RWY 36C, Amdt 16A.
5-Apr-12 | NC | Charlotte | Charlotte/Douglas Intl | 2/2942 | 2/23/12 | ILS RWY 36C (CAT III), Amdt 16A.
5-Apr-12 | NC | Charlotte | Charlotte/Douglas Intl | 2/2943 | 2/23/12 | RNAV (RNP) Z RWY 36C, Orig-C.
5-Apr-12 | KY | Covington | Cincinnati/Northern Kentucky Intl | 2/2946 | 2/6/12 | RNAV (RNP) Z RWY 18L, Orig-A.
5-Apr-12 | KY | Covington | Cincinnati/Northern Kentucky Intl | 2/2947 | 2/6/12 | ILS RWY 36C (CAT III), Amdt 41.
5-Apr-12 | KY | Covington | Cincinnati/Northern Kentucky Intl | 2/2948 | 2/6/12 | ILS OR LOC RWY 36L, Amdt 1.
5-Apr-12 | KY | Covington | Cincinnati/Northern Kentucky Intl | 2/2949 | 2/6/12 | ILS OR LOC RWY 18C, Amdt 22.
5-Apr-12 | KY | Covington | Cincinnati/Northern Kentucky Intl | 2/2950 | 2/6/12 | RNAV (GPS) Y RWY 18C, Amdt 1.
5-Apr-12 | KY | Covington | Cincinnati/Northern Kentucky Intl | 2/2951 | 2/6/12 | RNAV (GPS) Y RWY 18L, Amdt 1.
5-Apr-12 | KY | Covington | Cincinnati/Northern Kentucky Intl | 2/2952 | 2/6/12 | ILS OR LOC RWY 18R, Amdt 1.
5-Apr-12 | KY | Covington | Cincinnati/Northern Kentucky Intl | 2/2953 | 2/6/12 | ILS OR LOC RWY 36C, Amdt 41.
5-Apr-12 | KY | Covington | Cincinnati/Northern Kentucky Intl | 2/2954 | 2/6/12 | ILS OR LOC RWY 18L, Amdt 7.
5-Apr-12 | KY | Covington | Cincinnati/Northern Kentucky Intl | 2/2955 | 2/6/12 | RNAV (GPS) RWY 36C, Amdt 1.
5-Apr-12 | KY | Covington | Cincinnati/Northern Kentucky Intl | 2/2956 | 2/6/12 | ILS OR LOC RWY 36R, Amdt 8.
5-Apr-12 | KY | Covington | Cincinnati/Northern Kentucky Intl | 2/2957 | 2/6/12 | ILS RWY 36R (CAT II), Amdt 8.
5-Apr-12 | KY | Covington | Cincinnati/Northern Kentucky Intl | 2/2958 | 2/6/12 | RNAV (RNP) Z RWY 36R, Orig-A.
5-Apr-12 | KY | Covington | Cincinnati/Northern Kentucky Intl | 2/2959 | 2/6/12 | RNAV (GPS) Y RWY 36L, Amdt 1.
5-Apr-12 | KY | Covington | Cincinnati/Northern Kentucky Intl | 2/2960 | 2/6/12 | RNAV (RNP) Z RWY 36L, Orig-A.
5-Apr-12 | KY | Covington | Cincinnati/Northern Kentucky Intl | 2/2961 | 2/6/12 | RNAV (RNP) Z RWY 18C, Orig-A.
5-Apr-12 | KY | Covington | Cincinnati/Northern Kentucky Intl | 2/2962 | 2/6/12 | ILS RWY 18R (CAT II), Amdt 1.
5-Apr-12 | KY | Covington | Cincinnati/Northern Kentucky Intl | 2/2963 | 2/6/12 | ILS RWY 36C (CAT II), Amdt 41.
5-Apr-12 | KY | Covington | Cincinnati/Northern Kentucky Intl | 2/2964 | 2/6/12 | ILS RWY 36L (CAT II), Amdt 1.
5-Apr-12 | KY | Covington | Cincinnati/Northern Kentucky Intl | 2/2965 | 2/6/12 | RNAV (GPS) Y RWY 36R, Amdt 1.
5-Apr-12 | KY | Covington | Cincinnati/Northern Kentucky Intl | 2/2966 | 2/6/12 | ILS RWY 36R (CAT III), Amdt 8.
5-Apr-12 | KY | Covington | Cincinnati/Northern Kentucky Intl | 2/2967 | 2/6/12 | RNAV (GPS) Y RWY 36C, Amdt 1.
5-Apr-12 | KY | Covington | Cincinnati/Northern Kentucky Intl | 2/2968 | 2/6/12 | RNAV (RNP) Z RWY 36C, Orig-A.
5-Apr-12 | KY | Covington | Cincinnati/Northern Kentucky Intl | 2/2969 | 2/6/12 | RNAV (RNP) Z RWY 18R, Orig-A.
5-Apr-12 | KY | Covington | Cincinnati/Northern Kentucky Intl | 2/2970 | 2/6/12 | RNAV (GPS) Y RWY 18R, Amdt 1.
5-Apr-12 | FL | Orlando | Orlando Intl | 2/3079 | 2/22/12 | ILS OR LOC RWY 17L, Amdt 1.
5-Apr-12 | FL | Orlando | Orlando Intl | 2/3081 | 2/22/12 | ILS RWY 17L (CAT II), Amdt 1.
5-Apr-12 | FL | Orlando | Orlando Intl | 2/3082 | 2/22/12 | ILS RWY 17R (CAT II), Amdt 5.
5-Apr-12 | FL | Orlando | Orlando Intl | 2/3084 | 2/22/12 | ILS RWY 35L (CAT II), Amdt 6A.
5-Apr-12 | FL | Orlando | Orlando Intl | 2/3085 | 2/22/12 | RNAV (RNP) Z RWY 35L, Orig-A.
5-Apr-12 | FL | Orlando | Orlando Intl | 2/3086 | 2/22/12 | ILS OR LOC RWY 17R, Amdt 5.
5-Apr-12 | FL | Orlando | Orlando Intl | 2/3087 | 2/22/12 | ILS RWY 35R (CAT II), Amdt 1A.
5-Apr-12 | FL | Orlando | Orlando Intl | 2/3088 | 2/22/12 | ILS RWY 36R (CAT II), Amdt 1A.
5-Apr-12 | FL | Orlando | Orlando Intl | 2/3090 | 2/22/12 | ILS OR LOC RWY 18R, Amdt 9.
5-Apr-12 | FL | Orlando | Orlando Intl | 2/3091 | 2/22/12 | ILS OR LOC RWY 36R, Amdt 9A.
5-Apr-12 | FL | Orlando | Orlando Intl | 2/3092 | 2/22/12 | ILS OR LOC RWY 35L, Amdt 6A.
5-Apr-12 | FL | Orlando | Orlando Intl | 2/3093 | 2/22/12 | RNAV (GPS) Y RWY 36L, Orig.
5-Apr-12 | FL | Orlando | Orlando Intl | 2/3094 | 2/22/12 | ILS RWY 35L (CAT III), Amdt 6A.
5-Apr-12 | FL | Orlando | Orlando Intl | 2/3095 | 2/22/12 | ILS OR LOC RWY 35R, Amdt 1A.
5-Apr-12 | FL | Orlando | Orlando Intl | 2/3096 | 2/22/12 | RNAV (GPS) Y RWY 35L, Orig.
5-Apr-12 | FL | Orlando | Orlando Intl | 2/3097 | 2/22/12 | RNAV (RNP) Z RWY 36L, Orig-A.
5-Apr-12 | FL | Orlando | Orlando Intl | 2/3098 | 2/22/12 | RNAV (RNP) Z RWY 35R, Orig-A.
5-Apr-12 | FL | Orlando | Orlando Intl | 2/3099 | 2/22/12 | RNAV (GPS) Y RWY 36R, Orig.
5-Apr-12 | FL | Orlando | Orlando Intl | 2/3100 | 2/22/12 | RNAV (GPS) Y RWY 35R, Orig.
5-Apr-12 | FL | Orlando | Orlando Intl | 2/3101 | 2/22/12 | ILS RWY 36R (CAT III), Amdt 9A.
5-Apr-12 | FL | Orlando | Orlando Intl | 2/3104 | 2/22/12 | RNAV (RNP) Z RWY 36R, Orig-A.
5-Apr-12 | FL | Miami | Miami Intl | 2/3113 | 2/22/12 | RNAV (GPS) RWY 9, Orig-C.
5-Apr-12 | PA | Pittsburgh | Pittsburgh Intl | 2/3114 | 2/6/12 | ILS OR LOC RWY 28R, Amdt 9.
5-Apr-12 | FL | Miami | Miami Intl | 2/3116 | 2/22/12 | ILS OR LOC RWY 26L, Amdt 15A.
5-Apr-12 | FL | Miami | Miami Intl | 2/3118 | 2/22/12 | ILS OR LOC RWY 9, Amdt 9B.
5-Apr-12 | FL | Miami | Miami Intl | 2/3119 | 2/22/12 | ILS OR LOC RWY 27, Amdt 25.
5-Apr-12 | PA | Pittsburgh | Pittsburgh Intl | 2/3124 | 2/6/12 | RNAV (RNP) Z RWY 28L, Orig-B.
5-Apr-12 | PA | Pittsburgh | Pittsburgh Intl | 2/3126 | 2/6/12 | ILS RWY 28R (CAT II), Amdt 9.
5-Apr-12 | PA | Pittsburgh | Pittsburgh Intl | 2/3127 | 2/6/12 | ILS OR LOC RWY 28L, Amdt 10.
5-Apr-12 | PA | Pittsburgh | Pittsburgh Intl | 2/3128 | 2/6/12 | RNAV (GPS) Y RWY 28L, Amdt 4A.
5-Apr-12 | PA | Pittsburgh | Pittsburgh Intl | 2/3129 | 2/6/12 | RNAV (GPS) Y RWY 28C, Amdt 4.
5-Apr-12 | PA | Pittsburgh | Pittsburgh Intl | 2/3130 | 2/6/12 | RNAV (RNP) Z RWY 28C, Orig-B.
5-Apr-12 | PA | Pittsburgh | Pittsburgh Intl | 2/3131 | 2/6/12 | ILS RWY 10L, Amdt 25A.
5-Apr-12 | PA | Pittsburgh | Pittsburgh Intl | 2/3132 | 2/6/12 | ILS RWY 10L (CAT II), Amdt 25A.
5-Apr-12 | PA | Pittsburgh | Pittsburgh Intl | 2/3133 | 2/6/12 | ILS RWY 10L (CAT III), Amdt 25A.
5-Apr-12 | PA | Pittsburgh | Pittsburgh Intl | 2/3134 | 2/6/12 | RNAV (GPS) RWY 10L, Amdt 3.
5-Apr-12 | PA | Pittsburgh | Pittsburgh Intl | 2/3135 | 2/6/12 | RNAV (RNP) Z RWY 10C, Orig-B.
5-Apr-12 | PA | Pittsburgh | Pittsburgh Intl | 2/3136 | 2/6/12 | RNAV (GPS) Y RWY 10C, Amdt 4.
5-Apr-12 | PA | Pittsburgh | Pittsburgh Intl | 2/3137 | 2/6/12 | ILS RWY 10R (CAT II), Amdt 10D.
5-Apr-12 | PA | Pittsburgh | Pittsburgh Intl | 2/3138 | 2/6/12 | ILS OR LOC RWY 10R, Amdt 10D.
5-Apr-12 | PA | Pittsburgh | Pittsburgh Intl | 2/3139 | 2/6/12 | RNAV (GPS) Y RWY 10R, Amdt 3A.
5-Apr-12 | PA | Pittsburgh | Pittsburgh Intl | 2/3140 | 2/6/12 | ILS RWY 10R (CAT III), Amdt 10D.
5-Apr-12 | PA | Pittsburgh | Pittsburgh Intl | 2/3141 | 2/6/12 | RNAV (RNP) Z RWY 10R, Orig-B.
5-Apr-12 | FL | Tampa | Tampa Intl | 2/3163 | 2/6/12 | ILS OR LOC RWY 19L, Amdt 40.
5-Apr-12 | FL | Tampa | Tampa Intl | 2/3165 | 2/6/12 | ILS RWY 1L (CAT III), Amdt 16A.
5-Apr-12 | FL | Tampa | Tampa Intl | 2/3166 | 2/6/12 | ILS RWY 1L (CAT II), Amdt 16A.
5-Apr-12 | FL | Tampa | Tampa Intl | 2/3167 | 2/6/12 | RNAV (GPS) RWY 1R, Amdt 2.
5-Apr-12 | FL | Tampa | Tampa Intl | 2/3168 | 2/6/12 | ILS RWY 19L (CAT II), Amdt 40.
5-Apr-12 | FL | Tampa | Tampa Intl | 2/3169 | 2/6/12 | RNAV (GPS) Z RWY 19L, Amdt 2.
5-Apr-12 | FL | Tampa | Tampa Intl | 2/3170 | 2/6/12 | ILS OR LOC RWY 19R, Amdt 5.
5-Apr-12 | FL | Tampa | Tampa Intl | 2/3171 | 2/6/12 | ILS RWY 19L (SA CAT I), Amdt 40.
5-Apr-12 | FL | Tampa | Tampa Intl | 2/3172 | 2/6/12 | RNAV (RNP) Y RWY 19L, Amdt 1A.
5-Apr-12 | FL | Tampa | Tampa Intl | 2/3173 | 2/6/12 | ILS RWY 1L (SA CAT I), Amdt 16A.
5-Apr-12 | FL | Tampa | Tampa Intl | 2/3174 | 2/6/12 | ILS OR LOC RWY 1L, Amdt 16A.
5-Apr-12 | UT | Logan | Logan-Cache | 2/3187 | 2/23/12 | RNAV (GPS) RWY 17, Amdt 1.
5-Apr-12 | VT | Lyndonville | Caledonia County | 2/4811 | 2/22/12 | NDB RWY 2, Amdt 4A.
5-Apr-12 | VT | Lyndonville | Caledonia County | 2/4812 | 2/22/12 | RNAV (GPS) RWY 2, Orig-A.
5-Apr-12 | TX | Dallas | Dallas Executive | 2/5875 | 2/13/12 | ILS OR LOC RWY 31, Amdt 8B.
5-Apr-12 | TX | San Antonio | San Antonio Intl | 2/6055 | 2/13/12 | ILS OR LOC RWY 12R, ILS RWY 12R (CAT II), Amdt 14A.
5-Apr-12 | TX | San Antonio | San Antonio Intl | 2/6056 | 2/13/12 | ILS OR LOC RWY 30L, Amdt 10A.
5-Apr-12 | KS | Wichita | Wichita Mid-Continent | 2/6416 | 2/22/12 | ILS OR LOC RWY 1L, ILS RWY 1L (CAT II), Amdt 3A.
5-Apr-12 | OK | Tulsa | Tulsa Intl | 2/6417 | 2/23/12 | ILS OR LOC RWY 36R, ILS RWY 36R (CAT II), Amdt 39A.
5-Apr-12 | MN | Minneapolis | Minneapolis-St Paul Intl/Wold-Chamberlain | 2/6418 | 2/23/12 | ILS OR LOC RWY 30L, ILS RWY 30L (CAT II), Amdt 44A.
5-Apr-12 | MN | Minneapolis | Minneapolis-St Paul Intl/Wold-Chamberlain | 2/6419 | 2/23/12 | CONVERGING ILS RWY 30L, Orig.
5-Apr-12 | MN | Duluth | Duluth Intl | 2/6423 | 2/22/12 | ILS OR LOC RWY 9, ILS RWY 9 (CAT II), Amdt 21.
5-Apr-12 | OH | Wilmington | Wilmington Air Park | 2/6427 | 2/23/12 | NDB RWY 22R, Amdt 7D.
5-Apr-12 | NE | Omaha | Eppley Airfield | 2/6429 | 2/23/12 | ILS OR LOC RWY 32R, ILS RWY 32R (CAT II), ILS RWY 32R (CAT III), Orig-B.
5-Apr-12 | OH | Wilmington | Wilmington Air Park | 2/6432 | 2/23/12 | ILS RWY 22L, ILS RWY 22L (CAT II), Orig-A.
5-Apr-12 | OH | Wilmington | Wilmington Air Park | 2/6435 | 2/23/12 | ILS OR LOC RWY 22R, ILS RWY 22R (CAT II), ILS RWY 22R (CAT III), Amdt 5.
5-Apr-12 | MN | Duluth | Duluth Intl | 2/6442 | 2/22/12 | ILS OR LOC RWY 27, Amdt 9A.
5-Apr-12 | MN | Duluth | Duluth Intl | 2/6443 | 2/22/12 | COPTER ILS OR LOC RWY 27, Amdt 1.
5-Apr-12 | NE | Omaha | Eppley Airfield | 2/6444 | 2/23/12 | ILS OR LOC/DME RWY 14R, ILS RWY 14R (CAT II), ILS RWY 14R (CAT III), Amdt 4A.
5-Apr-12 | MN | Duluth | Duluth Intl | 2/6445 | 2/22/12 | COPTER ILS RWY 9, Amdt 1.
5-Apr-12 | WI | Milwaukee | General Mitchell Intl | 2/6638 | 2/23/12 | ILS OR LOC RWY 1L, ILS RWY 1L (CAT II), ILS RWY 1L (CAT III), Amdt 9.
5-Apr-12 | TX | Fort Worth | Fort Worth Alliance | 2/6942 | 2/23/12 | ILS OR LOC RWY 16L, ILS RWY 16L (CAT II), ILS RWY 16L (CAT III), Amdt 6.
5-Apr-12 | TX | Houston | Houston/William P. Hobby | 2/6943 | 2/23/12 | ILS OR LOC RWY 4, ILS RWY 4 (CAT II), ILS RWY 4 (CAT III), Amdt 40A.
5-Apr-12 | ME | Bangor | Bangor Intl | 2/7098 | 2/23/12 | ILS OR LOC RWY 15, ILS RWY 15 (CAT II), ILS RWY 15 (CAT III), Amdt 6A.
5-Apr-12 | IL | Chicago/Lake In The Hills | Lake In The Hills | 2/7102 | 2/23/12 | Takeoff Minimums and Obstacle DP, Orig.
5-Apr-12 | AL | Huntsville | Huntsville Intl—Carl T Jones Field | 2/7139 | 2/23/12 | VOR A, Amdt 12A.
5-Apr-12 | TX | Dallas-Fort Worth | Dallas-Fort Worth Intl | 2/7608 | 2/22/12 | ILS RWY 13R (SA CAT II), Amdt 8.
5-Apr-12 | TN | Knoxville | McGhee Tyson | 2/7680 | 2/23/12 | RNAV (GPS) RWY 5L, Amdt 1A.
5-Apr-12 | TX | Waco | Waco Rgnl | 2/7711 | 2/22/12 | RNAV (GPS) RWY 32, Orig.
5-Apr-12 | TX | Port Aransas | Mustang Beach | 2/7820 | 2/23/12 | RNAV (GPS) RWY 12, Orig-A.
5-Apr-12 | TX | Port Aransas | Mustang Beach | 2/7821 | 2/23/12 | RNAV (GPS) RWY 30, Orig-A.
5-Apr-12 | TX | Houston | Ellington Field | 2/8123 | 2/23/12 | RNAV (GPS) RWY 35L, Orig-B.
5-Apr-12 | NC | Greensboro | Piedmont Triad Intl | 2/8139 | 2/27/12 | ILS RWY 5R (CAT II), Amdt 7A.
5-Apr-12 | NC | Greensboro | Piedmont Triad Intl | 2/8140 | 2/27/12 | ILS RWY 5L (CAT III), Orig-A.
5-Apr-12 | NC | Greensboro | Piedmont Triad Intl | 2/8141 | 2/27/12 | ILS OR LOC RWY 23R, Orig-A.
5-Apr-12 | NC | Greensboro | Piedmont Triad Intl | 2/8142 | 2/27/12 | RNAV (GPS) RWY 5L, Orig-A.
5-Apr-12 | NC | Greensboro | Piedmont Triad Intl | 2/8143 | 2/27/12 | ILS OR LOC RWY 5L, Orig-A.
5-Apr-12 | NC | Greensboro | Piedmont Triad Intl | 2/8144 | 2/27/12 | ILS RWY 5L (CAT II), Orig-A.
5-Apr-12 | NC | Greensboro | Piedmont Triad Intl | 2/8146 | 2/27/12 | ILS OR LOC RWY 5R, Amdt 7A.
5-Apr-12 | NC | Greensboro | Piedmont Triad Intl | 2/8148 | 2/27/12 | RNAV (GPS) RWY 23R, Orig-A.
5-Apr-12 | AZ | Phoenix | Phoenix Sky Harbor Intl | 2/8151 | 2/27/12 | ILS OR LOC RWY 25L, Amdt 1E.
5-Apr-12 | AZ | Phoenix | Phoenix Sky Harbor Intl | 2/8152 | 2/27/12 | ILS OR LOC RWY 7R, Amdt 2.
5-Apr-12 | UT | Vernal | Vernal Rgnl | 2/8182 | 2/23/12 | RNAV (GPS) RWY 34, Amdt 1.
5-Apr-12 | SC | Aiken | Aiken Muni | 2/8273 | 2/23/12 | RNAV (GPS) RWY 7, Amdt 1.
5-Apr-12 | SC | Aiken | Aiken Muni | 2/8274 | 2/23/12 | ILS OR LOC/DME RWY 7, Orig.
5-Apr-12 | IN | Jeffersonville | Clark Rgnl | 2/8287 | 2/22/12 | NDB RWY 18, Amdt 1.
5-Apr-12 | IN | Jeffersonville | Clark Rgnl | 2/8288 | 2/22/12 | ILS OR LOC RWY 18, Amdt 2.
5-Apr-12 | IN | Auburn | De Kalb County | 2/8896 | 2/22/12 | VOR RWY 9, Amdt 7B.
5-Apr-12 | ND | Bismarck | Bismarck Muni | 2/8897 | 2/23/12 | ILS OR LOC RWY 31, Amdt 33.
5-Apr-12 | MN | Bemidji | Bemidji Rgnl | 2/9058 | 2/22/12 | RNAV (GPS) RWY 25, Orig.
5-Apr-12 | NH | Portsmouth | Portsmouth Intl at Peasea | 2/9382 | 2/23/12 | Takeoff Minimums and Obstacle DP, Orig.
5-Apr-12 | AK | Kodiak | Kodiak | 2/9393 | 2/22/12 | ILS OR LOC/DME Y RWY 25, Amdt 2.
5-Apr-12 | ME | Brunswick | Brunswick Executive | 2/9657 | 2/23/12 | ILS OR LOC/DME RWY 1R, Orig.

[FR Doc. 2012-6006 Filed 3-15-12; 8:45 am]

BILLING CODE 4910-13-P